FEDERAL COMMUNICATIONS COMMISSION

47 CFR Part 73

[DA 01-2251; MM Docket No. 01-263; RM-10280; MM Docket No. 01-264; RM-10281; MM Docket No. 01-265; RM-10282; MM Docket No. 01-266; RM-10283; MM Docket No. 01-267; RM-10289]

Radio Broadcasting Services; Junction, TX; Chino Valley, AZ; Arkadelphia, AR; Aspermont, TX; Cotulla, TX

AGENCY: Federal Communications Commission.

ACTION: Proposed rule.

SUMMARY: The Commission requests comments on a five petitions for rulemaking proposing new channels. A petition filed by Maurice Salsa, proposing the allotment of Channel 292A at Juntion,Texas as that community's second commercial FM transmission service. Channel 292A can be allotted to Junction without a site restriction at coordinates 30-29-21NL and 99-46-18 WL. Mexican concurrence will be requested for this allotment. A petition filed by Charles Crawford proposing the allotment of Channel 223A at Chino Valley, Arizona, as the community's second local service. Channel 223A can be allotted at Chino Valley at a site 6 kilometers (3.7 miles) west of the community at coordinates 34-46-10 NL and 112-31-03 WL. A petition filed by Charles Crawford proposing the allotment of Channel 228A at Arkadelphia, Arkansas, as the community's second local FM service. Channel 228A can be allotted at Arkadelphia at a site 11.5 kilometers (7.2 miles) west of the community at coordinates 34-07-1-NL and 93-10-43 WL. A petition filed by Jeraldine Anderson proposing the allotment of Channel 226C2 at Aspermont, Texas, as the community's first local aural transmission service. Channel 226C2 can be allotted at Aspermont at a site 6.7 kilometers (4.1 miles) north of the community at coordinates 33-11-27 NL and 100-14-50 WL. A petition filed by Jeraldine Anderson proposing the allotment of Channel 289A at Cotulla, Texas, as the community's second local service. Channel 289A can be allotted at Cotulla at a site 5.0 kilometers (3.1 miles) southwest of the community. Mexican concurrence will be requested for this allotment.

DATES: Comments must be filed on or before November 19, 2001, and reply comments on or before December 4, 2001.

ADDRESSES: Secretary, Federal Communications Commission, Washington, DC 20554. In addition to filing comments with the FCC, interested parties should serve the petitioners, as follows: Maurice Salsa, 5616 Evergreen Valley Drive, Kingwood, TX 77345 (petitioner for Junction, TX); Charles Crawford, 4553 Bordeaux Ave., Dallas, TX 75205 (petitioner for Chino Valley, AZ and Arkadelphia, AR); Jeraldine Anderson, 1702 Cypress Drive, Irving, TX 75061 (petitioner for Aspermont, TX and Cotulla, TX) .

FOR FURTHER INFORMATION CONTACT: Victoria McCauley, Mass Media Bureau, (202) 418-2180.

SUPPLEMENTARY INFORMATION: This is a synopsis of the Commission's Notice of Proposed Rule Making, MM Docket Nos. 01-263, 01-264, 01-265, No. 01-266, and 01-267, adopted September 19, 2001, and released September 28, 2001. The full text of this Commission decision is available for inspection and copying during normal business hours in the FCC's Reference Information Center (Room CY-A257), 445 Twelfth Street, SW., Washington, DC. The complete text of this decision may also be purchased from the Commission's copy contractor, Qualtex International, Portals II, 445 12th Street, SW., Room CY-B402, Washington, DC 20554, telephone (202) 863-2893.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. §§ 154, 303, 334 and 336.

§ 73.202 [Amended]

2. Section 73.202(b), the Table of FM Allotments under Arkansas, is amended by adding Channel 228A at Arkadelphia.

3. Section 73.202(b), the Table of FM Allotments under Arizona, is amended by adding Channel 223A at Chino Valley.

4. Section 73.202(b), the Table of FM Allotments under Texas, is amended by adding Channel 292A at Junction, Channel 289A at Cotulla, and Aspermont, Channel 226C2.

Federal Communications Commission.
John A. Karousos,
Chief, Allocations Branch, Policy and Rules Division, Mass Media Bureau.

[FR Doc. 01-25916 Filed 10-15-01; 8:45 am]

BILLING CODE 6712-01-P